DEPARTMENT OF ENERGY

National Commission on the BP Deepwater Horizon Oil Spill and Offshore Drilling

AGENCY: Department of Energy, Office of Fossil Energy.

ACTION: Notice of open meeting.

SUMMARY: This notice announces an open meeting of the National Commission on the BP Deepwater Horizon Oil Spill and Offshore Drilling (the Commission). The Commission was organized pursuant to the Federal Advisory Committee Act (Pub. L. 92-463, 86 Stat. 770) (the Act). The Act requires that agencies publish these notices in the Federal Register. The Charter of the Commission can be found at: http://energy.gov/news/documents/EXEC-2010-010234_2.pdf.

DATES: Monday, July 12, 2010, 9 a.m.-6 p.m. and Tuesday, July 13, 2010, 9 a.m.-4 p.m.

ADDRESSES: Hilton New Orleans Riverside, River Room and Port Starboard Room, Two Poydras Street, New Orleans, LA 70130; telephone number: 1-504-561-0500.

FOR FURTHER INFORMATION CONTACT: Christopher A. Smith, Designated Federal Officer, U.S. Department of Energy, 1000 Independence Avenue, SW., Washington, DC 20585; telephone (202) 586-0716 or facsimile (202) 586-6221; e-mail BPDeepwaterHorizonCommission@hq.doe.com.

SUPPLEMENTARY INFORMATION: Background: The President directed that the Commission be established to examine the relevant facts and circumstances concerning the root causes of the Deepwater Horizon explosion, fire and oil spill and develop options to guard against, and mitigate the impact of, any oil spills associated with offshore drilling in the future.

The Commission is composed of seven members appointed by the President to serve as special Government employees. The members were selected because of their extensive scientific, legal, engineering, and environmental expertise, and their knowledge of issues pertaining to the oil and gas industry.

Purpose of the Meeting: Inform the Commission members about the current status of the oil spill in the Gulf of Mexico. The meeting will provide the Commission with the opportunity to hear presentations and statements from various experts and provide additional information for the Commission's consideration.

Tentative Agenda: The first day of the meeting is expected to start on July 12 at 9 a.m. Presentations to the Commission are expected to begin shortly thereafter. Public comments can be made on July 12 from 4 p.m. to 6 p.m. The second day of the meeting is expected to start on July 13 at 9 a.m. Presentations to the Commission are expected to begin shortly thereafter. Public comments can be made on July 13 from 3 p.m. to 4 p.m.

Public Participation: Individuals and representatives of organizations who would like to offer comments may do so on July 12 from 4 p.m. to 6 p.m. and July 13 from 3 p.m. to 4 p.m. Approximately three hours total will be reserved for public comments. Time allotted per speaker will depend on the number who wish to speak but will not exceed 5 minutes. The Designated Federal Officer is empowered to conduct the meeting in a fashion that will facilitate the orderly conduct of business. Those wishing to speak on July 12 should register to do so beginning on July 12 at 9 a.m. and those wishing to speak on July 13 should register to do so beginning on July 13 at 9 a.m.

Those not able to attend the meeting or have insufficient time to address the committee are invited to send a written statement to Christopher A. Smith, U.S. Department of Energy, 1000 Independence Avenue, SW., Washington, DC 20585, or e-mail BPDeepwaterHorizonCommission@hq.doe.com. This notice is being published less than 15 days before the date of the meeting due to the national emergency that the Commission is addressing.

Minutes: The minutes of the meeting will be available by contacting Mr. Smith. He may be reached at the postal address or e-mail address above.

Issued in Washington, DC on June 25, 2010.
Carol A. Matthews,
Committee Management Officer.

[FR Doc. 2010-15985 Filed 6-28-10; 11:15 am]

BILLING CODE 6450-01-P